DEPARTMENT OF TRANSPORTATION

Federal Aviation Administration

14 CFR Part 39

[Docket No. FAA-2005-20730; Directorate Identifier 2004-NM-68-AD; Amendment 39-14172; AD 2005-13-35]

RIN 2120-AA64

Airworthiness Directives; Bombardier Model DHC-8-100, DHC-8-200, and DHC-8-300 Series Airplanes

AGENCY: Federal Aviation Administration (FAA), Department of Transportation (DOT).

ACTION: Final rule.

SUMMARY: The FAA is superseding an existing airworthiness directive (AD), which applies to all Bombardier Model DHC-8-100, DHC-8-200, and DHC-8-300 series airplanes. That AD currently requires installation of a placard on the instrument panel of the cockpit to advise the flightcrew that positioning of the power levers below the flight idle stop during flight is prohibited. Additionally, the existing AD requires eventual installation of an FAA-approved system that would prevent such positioning of the power levers during flight. Installation of that system terminates the requirement for installation of a placard. This new AD requires operators who have incorporated a certain Bombardier service bulletin to perform repetitive operational checks of the beta lockout system and to revise the Airworthiness Limitations document. This AD is prompted by in-service issues reported by operators who incorporated Bombardier Service Bulletin 8-76-24 as an alternative method of compliance to the existing AD. We are issuing this AD to prevent the inadvertent activation of ground beta mode during flight, which could lead to engine overspeed, engine damage or failure, and consequent reduced controllability of the airplane.

DATES: This AD becomes effective September 26, 2005.

The incorporation by reference of certain publications listed in the AD is approved by the Director of the Federal Register as of September 26, 2005.

ADDRESSES: For service information identified in this AD, contact Bombardier, Inc., Bombardier Regional Aircraft Division, 123 Garratt Boulevard, Downsview, Ontario M3K 1Y5, Canada.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20730; the directorate identifier for this docket is 2004-NM-68-AD.

FOR FURTHER INFORMATION CONTACT: Richard Fiesel, Aerospace Engineer, Airframe and Propulsion Branch, ANE-171, Federal Aviation Administration, New York Aircraft Certification Office, 1600 Stewart Avenue, Suite 410, Westbury, New York 11590; telephone (516) 228-7304; fax (516) 794-5531.

SUPPLEMENTARY INFORMATION: The FAA proposed to amend part 39 of the Federal Aviation Regulations (14 CFR part 39) with an AD to supersede AD 2000-02-13, amendment 39-11531 (65 FR 4095, January 26, 2000). The existing AD applies to all Bombardier Model DHC-8-101, -102, -103, -106, -201, -202, -301, -311, and -315 airplanes. The proposed AD was published in the Federal Register on March 30, 2005 (70 FR 16164), to continue to require installation of a placard on the instrument panel of the cockpit and eventual installation of an FAA-approved system to prevent positioning of the power levers below the flight idle stop. The proposed AD would also require operators who have incorporated a certain Bombardier service bulletin to perform repetitive operational checks of the beta lockout system and to revise the Airworthiness Limitations document.

Comments

We provided the public the opportunity to participate in the development of this AD. We have considered the comment that has been submitted on the proposed AD. The commenter supports the proposed AD.

Explanation of Change to Applicability

We have revised the applicability of the proposed AD to identify model designations as published in the most recent type certificate data sheet for the affected models.

Conclusion

We have carefully reviewed the available data, including the comment that has been submitted, and determined that air safety and the public interest require adopting the AD with the change described previously. We have determined that this change will neither increase the economic burden on any operator nor increase the scope of the AD.

Costs of Compliance

This AD affects about 185 Bombardier Model DHC-8-101, -102, -103, -106, -201, -202, -301, -311, and -315 airplanes of U.S. registry.

The installation of a placard that is required by AD 2000-02-13, and retained in this AD, requires about 1 work hour per airplane, at an average labor rate of $65 per work hour. No parts are required. Based on these figures, the cost impact of the placard installation on U.S. operators is estimated to be $12,025, or $65 per airplane.

The installation of the preventative system that is required by AD 2000-02-13, and retained in this AD, requires about 123 work hours per airplane, at an average labor rate of $65 per work hour. We estimate that required parts will cost approximately $12,000 per airplane. Based on these figures, the cost impact of the installation of the preventative system on U.S. operators is estimated to be $3,699,075, or $19,995 per airplane.

The operational check of the beta lockout system will take about 1 work hour per airplane, per check cycle, at an average labor rate of $65 per work hour. No parts are required. Based on these figures, the estimated cost of the new operational check specified in this AD for U.S. operators is $12,025, or $65 per airplane, per check cycle.

The revision of the Airworthiness Limitations document would take about 1 work hour per airplane, at an average labor rate of $65 per work hour. Based on these figures, the estimated cost of the revision specified in the AD for U.S. operators is $12,025, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11531 (65 FR 4095, January 26, 2000) and by adding the following new airworthiness directive (AD):

2005-13-35 Bombardier, Inc. (Formerly de Havilland, Inc.): Amendment 39-14172. Docket No. FAA-2005-20730; Directorate Identifier 2004-NM-68-AD.

Effective Date

(a) This AD becomes effective September 26, 2005.

Affected ADs

(b) This AD supersedes AD 2000-02-13, amendment 39-11531.

Applicability

(c) This AD applies to all Bombardier Model DHC-8-100, DHC-8-200, and DHC-8-300 series airplanes; certificated in any category.

Note 1: This AD requires revisions to certain operator maintenance documents to include new inspections. Compliance with these inspections is required by 14 CFR 91.403(c). For airplanes that have been previously modified, altered or repaired in the areas addressed by these inspections, the operator may not be able to accomplish the inspections described in the revision. In this situation, to comply with 14 CFR 91.403 (c), the operator must request approval for an alternative method of compliance in accordance with paragraph (l)(1) of this AD. The request should include a description of changes to the required inspections that will ensure the continued damage tolerance of the affected structure. The FAA has provided guidance for this determination in Advisory Circular (AC) 25-1529.

Unsafe Condition

(d) This AD was prompted by in-service issues reported by operators who incorporated a certain Bombardier service bulletin as an alternative method of compliance to AD 2000-02-13. We are issuing this AD to prevent the inadvertent activation of ground beta mode during flight, which could lead to engine overspeed, engine damage or failure, and consequent reduced controllability of the airplane.

Compliance

(e) You are responsible for having the actions required by this AD performed within the compliance times specified, unless the actions have already been done.

Requirements of AD 2000-02-13

Installation of Placard

(f) Within 30 days after March 1, 2000 (the effective date of AD 2000-02-13), install a placard in a prominent location on the instrument panel of the cockpit that states:

“Positioning of the power levers below the flight idle stop during flight is prohibited. Such positioning may lead to loss of airplane control, or may result in an engine overspeed condition and consequent loss of engine power.”

Installation of System Preventing Excessive Lowering of Power Levers in Flight

(g) Within 2 years after March 1, 2000, install a system that would prevent positioning the power levers below the flight idle stop during flight, in accordance with a method approved by the Manager, New York Aircraft Certification Office (ACO), FAA. Following accomplishment of that installation, the placard required by paragraph (f) of this AD may be removed.

(h) In the event that the system required by paragraph (g) of this AD malfunctions, or if the use of an override (if installed) is necessary, the airplane may be operated for three days to a location where required maintenance/repair can be performed, provided the system required by paragraph (g) of this AD has been properly deactivated and placarded for flightcrew awareness, in accordance with the FAA-approved Master Minimum Equipment List (MMEL).

New Requirements of This AD

Operational Checks of the Beta Lockout System

(i) For airplanes that have been modified in accordance with Bombardier Service Bulletin 8-76-24: Within 50 flight hours after the effective date of this AD, perform an operational check of the beta lockout system in accordance with the applicable de Havilland Dash 8 task card listed in Table 1 of this AD. Thereafter repeat the operational check at intervals specified in the applicable de Havilland temporary revision (TR) listed in Table 2 of this AD.

Table 1.—Task Cards
DHC-8 model | de Havilland task card | Date
-101, -102, -103, and -106 airplanes | Dash 8 Series 100 Maintenance Task Card 6120/10 | November 21, 2003.
-201 and -202 airplanes | Dash 8 Series 200 Maintenance Task Card 6120/10 | November 21, 2003.
-301, -311, and -315 airplanes | Dash 8 Series 300 Maintenance Task Card 6120/10 | November 21, 2003.

Revision of Airworthiness Limitations (AWL) Section

(j) Within 30 days after the effective date of this AD, revise the AWL section of the applicable Instructions for Continued Airworthiness by incorporating the contents of the applicable de Havilland TR listed in Table 2 of this AD into the AWL section of the applicable Bombardier DHC-8 Maintenance Program Support Manual (PSM).

Table 2.—TRs
DHC-8 model | de Havilland TR | Dated | For PSM
-101, -102, -103, and -106 airplanes | AWL-86 | March 17, 2003 | 1-8-7
-201 and -202 airplanes | AWL 2-26 | March 17, 2003 | 1-82-7
-301, -311, and -315 airplanes | AWL 3-93 | March 17, 2003 | 1-83-7

(k) When the information in the applicable de Havilland TR identified in Table 2 of this AD has been included in the general revisions of the applicable PSM identified in Table 2 of this AD, the general revisions may be inserted in the PSM, and the applicable TR may be removed from the AWL section of the Instruction for Continued Airworthiness.

Alternative Methods of Compliance (AMOCs)

(l)(1) The Manager, New York ACO has the authority to approve AMOCs for this AD, if requested in accordance with the procedures found in 14 CFR 39.19.

(2) AMOCS approved previously in accordance with AD 2000-02-13 are acceptable for the corresponding requirements of this AD.

Materials Incorporated by Reference

(m) You must use the documents listed in Table 3 of this AD to perform the actions that are required by this AD, unless the AD specifies otherwise. The Director of the Federal Register approves the incorporation by reference of these documents in accordance with 5 U.S.C. 552(a) and 1 CFR part 51. To get copies of the service information, contact Bombardier, Inc., Bombardier Regional Aircraft Division, 123 Garratt Boulevard, Downsview, Ontario M3K 1Y5, Canada. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Table 3.—Material Incorporated by Reference
de Havilland service information | Dated | To de Havilland program support manual
Dash 8 Series 100 Maintenance Task Card 6120/10 | November 21, 2003 | 1-8-7TC.
Dash 8 Series 200 Maintenance Task Card 6120/10 | November 21, 2003 | 1-82-7TC.
Dash 8 Series 300 Maintenance Task Card 6120/10 | November 21, 2003 | 1-83-7TC.
Temporary Revision AWL-86 | March 17, 2003 | 1-8-7.
Temporary Revision AWL 2-26 | March 17, 2003 | 1-82-7.
Temporary Revision AWL 3-93 | March 17, 2003 | 1-83-7.

Issued in Renton, Washington, on June 21, 2005.
Ali Bahrami,
Manager, Transport Airplane Directorate, Aircraft Certification Service.

[FR Doc. 05-12841 Filed 8-19-05; 8:45 am]

BILLING CODE 4910-13-P